DEPARTMENT OF COMMERCE

National Oceanic and Atmospheric Administration (NOAA)

Marine Protected Areas Federal Advisory Committee; Public Meetings

AGENCY: Office of National Marine Sanctuaries (ONMS), National Ocean Service (NOS), National Oceanic and Atmospheric Administration (NOAA), Department of Commerce (DOC).

ACTION: Notice of open meetings.

SUMMARY: Notice is hereby given under the Federal Advisory Committee Act of two meetings via web conference call of the Marine Protected Areas Federal Advisory Committee (Committee). The web conference calls are open to the public; participants can dial in to the calls. Participants who choose to use the web conferencing feature in addition to the audio will be able to view the presentations as they are being given.

DATES: Members of the public wishing to participate in the meeting should register at least one working day in advance of the meeting.

The first meeting will be held Thursday, July 13, 2017 from 3:00 to 5:00 p.m. EDT. The second meeting will be held Wednesday, August 30, 2017 from 1:00 to 3:00 p.m. EDT. These times and the agenda topics described below are subject to change. Refer to the Web page listed below for the most up-to-date meeting agenda.

ADDRESSES: The meetings will be held via web conference call. Register by contacting Nicole Capps at Nicole.Capps@noaa.gov or 831-647-6451 at least one working day in advance of the meeting.

FOR FURTHER INFORMATION CONTACT: Lauren Wenzel, Designated Federal Officer, MPA FAC, National Marine Protected Areas Center, 1305 East West Highway, Silver Spring, Maryland 20910. (Phone: 240-533-0652); email: lauren.wenzel@noaa.gov; or visit the National MPA Center Web site at http://www.marineprotectedareas.noaa.gov/fac/.)

SUPPLEMENTARY INFORMATION: Section 4(c) of Executive Order 13158, on marine protected areas, authorized the formation of the Committee, and the Department of Commerce (DOC) established the Committee in accordance with this Executive Order. The Committee, which is composed of external, knowledgeable representatives of stakeholder groups, is charged with providing advice to the Secretaries of Commerce and the Interior on implementation of Section 4 of Executive Order 13158. NOAA issues this Notice of Public Meetings pursuant to Section 10 of the Federal Advisory Committee Act, 5 U.S.C. App. 2, and the FACA implementing regulations, 40 CFR 102-3.150.

Matters to be considered: The focus of the July 13, 2017 meeting is a discussion of the Committee's work on MPA engaging a diverse public, citizen science and adaptive management. The Committee members will also discuss options for public and stakeholder input on MPA issues if the Committee is not reauthorized. The August 30, 2017 meeting will focus on finalizing and voting on Committee recommendations. The agendas are available on the MPA FAC Web site and are subject to change. The latest versions will be posted at http://www.marineprotectedareas.noaa.gov/fac/.

Dated: June 21, 2017.
John Armor,
Director, Office of National Marine Sanctuaries, National Ocean Service, National Oceanic and Atmospheric Administration.

[FR Doc. 2017-14486 Filed 7-10-17; 8:45 am]

BILLING CODE 3510-NK-P